DEPARTMENT OF ENERGY

Federal Energy Regulatory Commission

[Docket No. RM98-1-000]

Records Governing Off-the-Record Communications; Public Notice

This constitutes notice, in accordance with 18 CFR 385.2201(b), of the receipt of prohibited and exempt off-the-record communications.

Order No. 607 (64 FR 51222, September 22, 1999) requires Commission decisional employees, who make or receive a prohibited or exempt off-the-record communication relevant to the merits of a contested proceeding, to deliver to the Secretary of the Commission, a copy of the communication, if written, or a summary of the substance of any oral communication.

Prohibited communications are included in a public, non-decisional file associated with, but not a part of, the decisional record of the proceeding. Unless the Commission determines that the prohibited communication and any responses thereto should become a part of the decisional record, the prohibited off-the-record communication will not be considered by the Commission in reaching its decision. Parties to a proceeding may seek the opportunity to respond to any facts or contentions made in a prohibited off-the-record communication, and may request that the Commission place the prohibited communication and responses thereto in the decisional record. The Commission will grant such a request only when it determines that fairness so requires. Any person identified below as having made a prohibited off-the-record communication shall serve the document on all parties listed on the official service list for the applicable proceeding in accordance with Rule 2010, 18 CFR 385.2010.

Exempt off-the-record communications are included in the decisional record of the proceeding, unless the communication was with a cooperating agency as described by 40 CFR 1501.6, made under 18 CFR 385.2201(e)(1)(v).

The following is a list of off-the-record communications recently received by the Secretary of the Commission. The communications listed are grouped by docket numbers in ascending order. These filings are available for electronic review at the Commission in the Public Reference Room or may be viewed on the Commission's Web site at http://www.ferc.gov using the eLibrary link. Enter the docket number,

excluding the last three digits, in the docket number field to access the document. For assistance, please contact FERC Online Support at FERCOnlineSupport@ferc.gov or toll free at (866) 208-3676, or for TTY, contact (202) 502-8659.

Docket No. | File date | Presenter or requester
Prohibited:
1. P-1494-000 | 7/21/15 | Quapaw Tribe of Oklahoma.
2. CP15-17-000 | 7/23/15 | Brenda Forrester.
3. CP15-17-000 | 7/27/15 | John Holloway.
Exempt:
1. CP15-93-000 | 7/24/15 | U.S. Representative Tim Murphy.
2. EL15-70-000, 71-000, EL15-72-000 | 7/30/15 | U.S. Senator Richard J. Durbin.
3. P-1494-000 | 7/31/15 | U.S. Senator James Lankford.
4. CP15-93-000 | 8/3/15 | FERC Staff.¹
5. CP15-500-000 | 8/3/15 | Brewster County, TX, Commissioner Luc Novovitch.
6. CP13-483-000, CP13-492-000 | 8/3/15 | FERC Staff.²
8. CP13-483-000, CP13-492-000 | 8/6/15 | FERC Staff.³
¹ Record of July 20, 2015 conference call with Cardno ENTRIX (FERC's contractor), Rover Pipeline LLC, and Apex (Rover's contactor).
² Notes from July 22, 2015 telephone conference call with federal cooperating agencies regarding production of final environmental impact statement.
³ Notes from August 5, 2015 telephone conference call with federal cooperating agencies regarding production of final environmental impact statement.

Dated: August 10, 2015.
Nathaniel J. Davis, Sr.,
Deputy Secretary.

[FR Doc. 2015-20070 Filed 8-13-15; 8:45 am]

BILLING CODE 6717-01-P